ENVIRONMENTAL PROTECTION AGENCY

EPA-HQ-OPP-2010-0014; FRL-9384-6]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to the Federal Insecticide, Fungicide, and Rodenticide Act (FIFRA). This cancellation order follows a September 19, 2012 Federal Register notice of receipt of requests from the registrants listed in Table 2 of Unit II. to voluntarily cancel these product registrations. In the September 19, 2012 notice, EPA indicated that it would issue an order implementing the cancellations, unless the Agency received substantive comments within the 180-day comment period that would merit its further review of these requests, or unless the registrants withdrew their requests. The Agency did not receive any comments on the notice. Further, the registrants did not withdraw their requests. Accordingly, EPA hereby issues in this notice a cancellation order granting the requested cancellations. Any distribution, sale, or use of the products subject to this cancellation order is permitted only in accordance with the terms of this order, including any existing stocks provisions.

DATES: The cancellations are effective April 24, 2013.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2010-0014, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellation, as requested by registrants, of 50 products registered under FIFRA section 3. These registrations are listed in sequence by registration number in Table 1 of this unit.

Table 1—Product Cancellations
EPA Registration No. | Product name | Chemical name
00100-00990 | Demon WP Insecticide | Cypermethrin.
000264-00778 | Stratego | Propiconazole; trifloxystrobin.
000432-00867 | Delta GC Insecticide Granule | Deltamethrin.
000432-01240 | DeltaGard GC Granular Insecticide. | Deltamethrin.
000432-01241 | DeltaGard T & O Granular Insecticide | Deltamethrin.
000432-01242 | DeltaGard GC Granular Insecticide | Deltamethrin.
000432-01243 | DeltaGard T & O Granular Insecticide | Deltamethrin.
000432-01307 | Tempo 20 WP T & O Insecticide in Water Soluble Packets (120G) | Cyfluthrin.
000432-01325 | Tempo 0.02 Ornamental Insecticide | Cyfluthrin.
000432-01337 | Tempo 2 Golf Course Insecticide | Cyfluthrin.
000432-01359 | Tempo 2 Greenhouse and Nursery Insecticide | Cyfluthrin.
000675-00019 | Bulk Amphyl Brand Disinfectant | 2-Benzyl-4-chlorophenol; o-phenylphenol.
001043-00115 | Process Vesphene II ST | 4-Tert amylphenol; o-phenylphenol.
001448-00092 | Busan 1024 | 3,5,7-Triaza-1-azoniatricyclo(3.3.1.1 (superscript 3,7)) decane, 1-methyl-, chloride.
002829-00090 | Durotex 7603 | 10,10'-Oxybisphenoxarsine.
002829-00096 | Vinyzene BP 5-2 | 10,10'-Oxybisphenoxarsine.
002829-00105 | Vinyzene BP-5 SIL3 | 10,10'-Oxybisphenoxarsine.
002829-00109 | Vinyzene BP-5-2MS | 10,10'-Oxybisphenoxarsine.
002829-00110 | Vinyzene BP 5-2 MEK | 10,10'-Oxybisphenoxarsine.
002829-00115 | Vinyzene SB-1 | 10,10'-Oxybisphenoxarsine.
002829-00120 | OBPA | 10,10'-Oxybisphenoxarsine.
002829-00125 | Vinyzene BP-5-5 DIDP | 10,10'-Oxybisphenoxarsine.
002829-00132 | Vinyzene SB-2 | 10,10'-Oxybisphenoxarsine.
002829-00144 | Vinyzene IT 4081 DIDP | 10,10'-Oxybisphenoxarsine.
003377-00020 | Bromine Chloride Disinfectant | Bromine chloride.
009688-00134 | Chemico Insect Bait A | Sulfluramid.
009688-00199 | Chemico Insect Bait SS | Sulfluramid.
009688-00209 | Chemico Insect Bait REP | Sulfluramid.
010292-00020 | Unitab | Phosphoric acid 1-decanaminium, N-decyl-N,N-dimethyl-, chloride.
010772-00005 | Sno Bol Toilet Bowl Cleaner | Hydrochloric acid; 1-decanaminium, N,N-dimethyl-N-octyl-, chloride; alkyl*dimethyl benzyl ammonium chloride *(50%C14, 40%C12, 10%C16); 1-decanaminium, N-decyl-N,N-dimethyl-, chloride; 1-octanaminium, N,N-dimethyl-N-octyl-, chloride.
048520-00016 | Poly-50 Algaecide | Poly(oxy-1,2-ethanediyl(dimethylimino)-1,2-ethanediyl(dimethylimino)-1,2-ethanediyl dichloride).
062719-00418 | RH-0611 | Mancozeb; myclobutanil.
062719-00584 | GF 1948 | Propiconazole.
066330-00337 | Micro Flo Permethrin 3.2 AG | Permethrin.
066330-00376 | Thifensulfuron-methyl Technical | Thifensulfuron.
074655-00027 | Olin 3204 | Poly(oxy-1,2-ethanediyl(dimethylimino)-1,2-ethanediyl(dimethylimino)-1,2-ethanediyl dichloride).
AL020006 | Propiconazole EC | Propiconazole.
AR020003 | Propiconazole EC | Propiconazole.
CA090003 | Agri-Mek 0.15 EC Miticide/Insecticide | Abamectin.
FL100007 | Gramoxone Inteon | Paraquat dichloride.
KY050001 | Propimax EC | Propiconazole.
ME090004 | Ethrel Brand Ethephon Plant Regulator | Ethephon.
MI040003 | Propiconazole EC | Propiconazole.
MI110003 | Gramoxone Inteon | Paraquat dichloride.
MN030003 | Propiconazole EC | Propiconazole.
MS030003 | Propiconazole EC | Propiconazole.
ND020003 | Propiconazole EC | Propiconazole.
NV000005 | WIN-FLO 4F | Pentachloronitrobenzene.
NY050002 | Propimax EC | Propiconazole.
OH030003 | Propiconazole EC. | Propiconazole.
* Note: The voluntary cancellation request published on September 19, 2012, included SLN: WA000014. However, since the product registration was cancelled in the Federal Register issue of February 6, 2013 (78 FR 8513) (FRL-9377-1), it is not included in the list shown in this Unit.

Table 2 of this unit includes the names and addresses of record for all registrants of the products in Table 1 of this unit, in sequence by EPA company number. This number corresponds to the first part of the EPA registration numbers of the products listed in Table 1 of this unit.

Table 2—Registrants of Cancelled Products
EPA Company number | Company name and address
100 (CA090003; FL100007; MI110003) | Syngenta Crop Protection, LLC, 410 Swing Rd., P.O. Box 18300, Greensboro, NC 27419-8300.
264 (ME090004) | Bayer CropScience LP, 2 T.W. Alexander Dr., P.O. Box 12014, Research Triangle Park, NC 27709.
432 | Bayer Environmental Science, 2 T.W. Alexander Dr., P.O. Box 12014, Research Triangle Park, NC 27709.
675 | Reckitt Benckiser, LLC, 399 Interpace Parkway, Parsippany, NJ 07054-0225.
1043 | Steris Corporation, P.O. Box 147, St. Louis, MO 63166-0147.
1448 | Buckman Laboratories, Inc., 1256 North McLean Blvd., Memphis, TN 38108.
2829 | Rohm and Haas Company, 100 Independence Mall West, Suite 1A, Philadelphia, PA 19106-2399.
3377 | Albemarle Corporation, 451 Florida St., Baton Rouge, LA 70801-1765.
9688 | Chemisco, P.O. Box 142642, St. Louis, MO 63114-0642.
10292 | Venus Laboratories, Inc., 111 South Rohlwing Rd., Addison, IL 60101.
10772 | Church & Dwight Co., Inc., 469 North Harrison St., Princeton, NJ 08543-5297.
48520 | Phoenix Products Company, 5 Roger Ave., Milford, CT 06460-6436.
62719 (AL020006; AR020003; KY050001; MI040003; MN030003; MS030003; ND020003; NY050002; OH030003) | Dow AgroSciences, LLC, 9330 Zionsville Rd., Indianapolis, IN 46268-1054.
66330 | Arysta Life Science North America, LLC, 15401 Weston Parkway, Suite 150, Cary, NC 27513.
74655 | Hercules Incorporated, A Wholly Owned Subsidiary of Ashland, Inc., 7910 Baymeadows Way, Suite 100, Jacksonville, FL 32256.
NV000005 | AMVAC Chemical Corporation, 4695 MacArthur Ct., Suite 1200, Newport Beach, CA 92660-1706.

III. Summary of Public Comments Received and Agency Response to Comments

During the public comment period provided, EPA received no comments in response to the September 19, 2012 Federal Register notice announcing the Agency's receipt of the requests for voluntary cancellations of products listed in Table 1 of Unit II.

IV. Cancellation Order

Pursuant to FIFRA section 6(f), EPA hereby approves the requested cancellations of the registrations identified in Table 1 of Unit II. Accordingly, the Agency hereby orders that the product registrations identified in Table 1 of Unit II. are canceled. The effective date of the cancellations that are the subject of this notice is April 24, 2013. Any distribution, sale, or use of existing stocks of the products identified in Table 1 of Unit II. in a manner inconsistent with any of the provisions for disposition of existing stocks set forth in Unit VI. will be a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register issue of September 19, 2012 (77 FR 58136) (FRL-9361-2). The comment period closed on March 18, 2013.

VI. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of products listed in Table 1 of Unit II. until April 24, 2014, which is 1 year after the publication of the Cancellation Order in the Federal Register. Thereafter, the registrants are prohibited from selling or distributing products listed in Table 1 of Unit II., except for export in accordance with FIFRA section 17, or proper disposal. Persons other than the registrants may sell, distribute, or use existing stocks of products listed in Table 1 of Unit II. until existing stocks are exhausted, provided that such sale, distribution, or use is consistent with the terms of the previously approved labeling on, or that accompanied, the canceled products.

List of Subjects

Environmental protection, Pesticides and pests.

Dated: April 9, 2013.
Richard P. Keigwin, Jr.,
Director, Pesticide Re-Evaluation Division, Office of Pesticide Programs.

[FR Doc. 2013-09553 Filed 4-23-13; 8:45 am]

BILLING CODE 6560-50-P